DEPARTMENT OF THE INTERIOR

National Park Service

[NPS-WASO-NRNHL-24452; PPWOCRADI0, PCU00RP14.R50000]

National Register of Historic Places; Notification of Pending Nominations and Related Actions

AGENCY: National Park Service, Interior.

ACTION: Notice.

SUMMARY: The National Park Service is soliciting comments on the significance of properties nominated before October 7, 2017, for listing or related actions in the National Register of Historic Places.

DATES: Comments should be submitted by November 13, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before October 7, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

HAWAII

Honolulu County

Smith, Francis J., Apartment Building, 2240 Waikolu Way, Honolulu, SG100001818

IOWA

Woodbury County

Belfrage, W.L. and Winnie (Woodfield), Farmstead Historic District, 2410 Port Neal Rd., Sergeant Bluff, SG100001819

TENNESSEE

Carroll County

Leach Fire Lookout Tower, (Tennessee Division of Forestry Fire Lookout Towers MPS), RT 1 Leach Rd., Cedar Grove, MP100001821

Coffee County

Wilson—Crouch House, (Tullahoma MPS), 216 S. Jackson St., Tullahoma, MP100001820

Davidson County

Tennessee War Memorial, 301 6th Ave. N., Nashville, SG100001822

Gibson County

Mt. Zion Negro School, 30 Mt. Zion Rd., Bradford vicinity, SG100001823

Greene County

Blue Springs Lutheran Church and Cemetery, 920 Main St., Mosheim, SG100001824

Lawrence County

Farmers and Merchants Bank, 213 Depot St., Ethridge, SG100001825

Maury County

Hardison Mill Farm, 4554 US 431, Columbia, SG100001826

Pottsville General Store, 4205 US 431, Columbia vicinity, SG100001827

Scott County

Black Creek Fire Lookout Tower, (Tennessee Division of Forestry Fire Lookout Towers MPS), Black Creek Rd., Robbins, MP100001828

A request for removal has been made for the following resources:

COLORADO

Fremont County

Rio Grande Railroad Viaduct, (Highway Bridges in Colorado MPS), CO 120 at milepost 0.17, Florence vicinity, OT02001148

Portland Bridge, (Vehicular Bridges in Colorado TR), SR 120, Portland, OT85000210

TENNESSEE

Williamson County

Wilson, Joseph, House, (Williamson County MRA), Clovercroft Rd. 2/10 mi. W of Wilson Pike, Franklin vicinity, OT88000372

Nomination submitted by Federal Preservation Officer: The State Historic Preservation Officer reviewed the following nomination and responded to the Federal Preservation Officer within 45 days of receipt of the nomination and supports listing the property in the National Register of Historic Places.

UTAH

San Juan County

Moon House Complex, Address Restricted, Blanding vicinity, SG100001830

Authority: 60.13 of 36 CFR part 60.

Dated: October 12, 2017.
J. Paul Loether,
Chief, National Register of Historic Places/National Historic Landmarks Program and Keeper, National Register of Historic Places.

[FR Doc. 2017-23332 Filed 10-25-17; 8:45 am]

BILLING CODE 4312-52-P